AFRICAN DEVELOPMENT FOUNDATION

Public Quarterly Meeting of the Board of Directors

AGENCY: United States African Development Foundation.

ACTION: Notice of meeting.

SUMMARY: The U.S. African Development Foundation (USADF) will hold its quarterly meeting of the Board of Directors to discuss the agency's programs and administration. This meeting will occur at the USADF office.

DATES: The meeting date is Tuesday, October 26, 2021, 10:30 a.m. to 12:00 noon.

ADDRESSES: The meeting will be held via teleconference. Please contact Nina-Belle Mbayu for further information.

FOR FURTHER INFORMATION CONTACT: Nina-Belle Mbayu, (202) 233-8808, nbmbayu@usadf.gov.

Authority: Public Law 96-533 (22 U.S.C. 290h).

Dated: October 5, 2021.
Nina-Belle Mbayu,
Acting General Counsel.

[FR Doc. 2021-22068 Filed 10-7-21; 8:45 am]

BILLING CODE 6117-01-P